DEPARTMENT OF COMMERCE

National Oceanic and Atmospheric Administration

RIN 0648-XE066

Gulf of Mexico Fishery Management Council (Council); Public Meeting

AGENCY: National Marine Fisheries Service (NMFS), National Oceanic and Atmospheric Administration (NOAA), Commerce.

ACTION: Notice of public meetings.

SUMMARY: The Gulf of Mexico Fishery Management Council (GMFMC) will hold meetings of the: Joint Administrative Policy and Budget/Personnel, Mackerel, Shrimp, Data Collection, and Reef Fish Management Committees; in conjunction with a meeting of the Full Council. The Council will also hold a formal public comment session.

DATES: The Council meeting will be held August 10-13, 2015. The meeting will begin at 8:30 a.m. on Monday, August 10, 2015 and recess at 5 p.m. The meeting will reconvene at 8:30 a.m. on Tuesday, August 11, 2015 and recess at 5 p.m. The meeting will reconvene at 8:30 a.m. on Wednesday, August 12, 2015 and recess at 5:30 p.m. The meeting will convene on the final day at 8:30 a.m. on Thursday, August 13, 2015 and adjourn by 3 p.m. or when business is complete.

ADDRESSES: Meeting address: The meeting will be held at the Hilton Riverside hotel, Two Poydras Street, New Orleans, LA 70130; telephone: (504) 561-0500.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The Council items of discussion for each individual management committee, and Council's agenda are as follows:

Monday, August 10, 2015, 8:30 a.m., Until 5 p.m.

8:30 a.m.-12 noon: Joint Administrative Policy and Budget/Personnel Committees

• Discuss Combining Administrative Policy and Budget/Personnel Committees

• Discuss Historical Performance of Council Scoping Meetings

• Review of Advisory Panel (AP) Staggered Terms

• Discuss Procedures for AP Appointments and Fishing Violations

• Review of Statement Organization Practices and Procedures (SOPPs) Revisions

• Review of Magnuson-Stevens Act (MSA) Reauthorization Bills

• Discuss Recent NOAA Essential Fish Habitat (EFH) 5-year Review Budget Enhancement

—Recess—

1:30 p.m.-3 p.m.: Mackerel Management Committee

• Joint Draft Options Paper for Coastal Migratory Pelagics (CMP) Amendment 26: Modifications to Allocations, Stock Boundaries, and Sale Provisions for Gulf of Mexico and Atlantic Migratory Groups of King Mackerel.

• Options Paper for CMP Amendment 28: Separating Permits for Gulf of Mexico and Atlantic Migratory Groups of King Mackerel and Spanish Mackerel.

3 p.m.-4 p.m.: Shrimp Management Committee

• Draft Options Paper for Shrimp Amendment 17—Addressing the Expiration of the Shrimp Permit Moratorium

• Other Business—Update on Changes in Turtle Excluder Devices (TED) Regulations in Louisiana

4 p.m.-5 p.m.: Data Collection Management Committee

• Review of Public Hearing Draft—Joint Electronic Charter Vessel Reporting Amendment

—Adjourn for the day—

Tuesday, August 11, 2015, 8:30 a.m. Until 5 p.m.

8:30 a.m.-5 p.m.: Reef Fish Management Committee

• Review Public Hearing Draft Amendment 39—Regional Management of Recreational Red Snapper

• Updated Options Paper—Framework Action to Set Gag Recreational Season and Gag and Black Grouper Minimum Size Limits

• Final Action—Amendment 28—Red Snapper Allocation

• Final Action—Framework Action to Allow NMFS to Withhold a Portion of the Commercial Red Snapper Quota in 2016

• Draft Framework Action—Modify Gear Restrictions for Yellowtail Snapper

• Options Paper—Amendment 42—Federal Reef Fish Headboat Management

• Options Paper—Amendment 41—Federal Charter-for-Hire Red Snapper Management

• Discussion—Ad Hoc Private Recreational Advisory Panel

—Adjourn for the day—

Wednesday, August 12, 2015, 8:30 a.m. Until 11 a.m.: Council Session

• Call to Order, Announcements, and Introductions

• Induction of New Council Members

• Adoption of Agenda, Approval of Minutes, and Review of Exempted Fishing Permits (EFPs) Applications—Lionfish Trap Proposal

• Summary of the Council Coordination Committee meeting

• Review of White Paper Evaluating Potential Artificial Reef Siting Criteria in the Gulf of Mexico

• Receive committee report from the Joint Administrative Policy and Budget/Personnel Management Committee

—Recess—

The Council will receive public testimony from 1 p.m.-5:30 p.m.:

• Final Action on Reef Fish Amendment 28—Red Snapper Allocation

• Final Action on Red Snapper Commercial Quota Retention for 2016

• Open Testimony on any Other Fishery Issues or Concerns

People wishing to speak before the Council should complete a public comment card prior to the comment period.

—Adjourn for the day—

Thursday, August 13, 2015, 8:30 a.m.-3 p.m.: Council Session

• The Council will receive reports from the Mackerel, Shrimp, Reef Fish, and Data Collection Management Committees

• Vote on Exempted Fishing Permits (EFPs), if any

• Other Business

• Election of Chair and Vice Chair

—Meeting Adjourns—

The timing and order in which agenda items are addressed may change as required to effectively address the issue. The latest version will be posted on the Council's file server, which can be accessed by going to the Council's Web site at http://www.gulfcouncil.org and clicking on FTP Server under Quick Links. For meeting materials, select the “Briefing Books/Briefing Book 2015-08” folder on Gulf Council file server. The username and password are both “gulfguest”. The meetings will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Gulf Council Office (see ADDRESSES), at least 5 working days prior to the meeting.

Authority: 16 U.S.C. 1801 et seq.

Dated: July 21, 2015.
Tracey L. Thompson,
Acting Deputy Director, Office of Sustainable Fisheries, National Marine Fisheries Service.

[FR Doc. 2015-18253 Filed 7-24-15; 8:45 am]

BILLING CODE 3510-22-P